NEIGHBORHOOD REINVESTMENT CORPORATION

Sunshine Act Meetings Special Board of Directors Meeting

TIME & DATE: 2:00 p.m., Friday, October 30, 2020.

PLACE: Via Conference Call.

STATUS: Open.

Agenda

I. Virtual Site Visits and Presentations

• NeighborWorks of Western Vermont

• NeighborWorks of Salt Lake

• A Community of Friends (Los Angeles, CA)

CONTACT PERSON FOR MORE INFORMATION: Lakeyia Thompson, Special Assistant, (202) 524-9940; Lthompson@nw.org.

Lakeyia Thompson,
Special Assistant.

[FR Doc. 2020-23847 Filed 10-23-20; 4:15 pm]

BILLING CODE 7570-02-P